DEPARTMENT OF TRANSPORTATION

National Highway Traffic Safety Administration

49 CFR Parts 567 and 568

[Docket No. NHTSA-99-5673]

RIN 2127-AE27

Vehicles Built in Two or More Stages

AGENCY: National Highway Traffic Safety Administration (NHTSA), DOT.

ACTION: Notice of meetings.

SUMMARY: This document announces the dates of the public meetings of the Negotiated Rulemaking Committee on the development of recommended amendments to the existing NHTSA regulations (49 CFR Part 567, 568) governing the certification of vehicles built in two or more stages to the Federal motor vehicle safety standards (49 CFR Part 571). The Committee was established under the Federal Advisory Committee Act.

DATES: The meetings are scheduled as follows:

1. February 9-10, 2000.

2. March 7-8, 2000.

3. April 11-12, 2000.

4. May 17-18, 2000.

5. June 21-22, 2000.

ADDRESSES: The first meeting of the advisory committee will take place at the Hotel Washington, 515 Fifteenth Street, NW., and will begin at 10 on February 9th. Information on the location of subsequent meetings may be obtained from NHTSA two weeks before the relevant meeting is to take place.

FOR FURTHER INFORMATION CONTACT: For non-legal issues, you may call Charles Hott, Office of Crashworthiness Standards, at 202-366-4920.

For legal issues, you may call Rebecca MacPherson, Office of the Chief Counsel, at 202-366-2992.

You may send mail to both of these officials at the National Highway Traffic Safety Administration, 400 Seventh St., SW., Washington, DC 20590.

SUPPLEMENTARY INFORMATION:

I. Background

On May 20, 1999, the National Highway Traffic Safety Administration (NHTSA) published a notice of intent to establish an advisory committee (Committee) for a negotiated rulemaking to develop recommendations for regulations governing the certification of vehicles built in two or more stages. The notice requested comment on membership, the interests affected by the rulemaking, the issues that the Committee should address, and the procedures that it should follow. The reader is referred to that notice (64 FR 27499) for further information on these issues.

On December 14-15, 1999, interested parties attended a public meeting in Washington, DC. As part of that meeting, the schedule of specific dates for holding meetings of the Advisory Committee was agreed upon. Meetings of the Committee will be open to the public so that individuals who are not part of the Committee may attend and observe. Any person attending the Committee meetings may address the Committee, if time permits, or file statements with the Committee.

II. Authority

5 U.S.C. sections 561 et seq., delegation of authority at 49 CFR 1.50.

Issued on: February 2, 2000.
Stephen R. Kratzke,
Acting Associate Administrator for Safety Performance Standards.

[FR Doc. 00-2717 Filed 2-2-00; 4:34 pm]

BILLING CODE 4910-59-P